DEPARTMENT OF DEFENSE

Department of the Navy

[Docket ID: USN-2012-0010]

Privacy Act of 1974; System of Records

AGENCY: Department of the Navy, DoD.

ACTION: Notice to add a system of records.

SUMMARY: The Department of the Navy proposes to add a system of records in its inventory of record systems subject to the Privacy Act of 1974 (5 U.S.C. 552a), as amended. The blanket (k)(1) exemption applies to this systems of records to accurately describe the basis for exempting disclosure of classified information that is or may be contained in the records.

DATES: This proposed action will be effective on July 30, 2012 unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Department of the Navy, DNS-36, 2000 Navy Pentagon, Washington, DC 20350-2000 or call at (202) 685-6545.

SUPPLEMENTARY INFORMATION: The Department of the Navy notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on June 21, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: June 26, 2012.
Aaron Siegel,
Alternate OSD Federal Register Liaison Officer, Department of Defense.

N07250-1

System Name:

Navy Cash® Financial System.

System Location:

Navy Cash is installed on all Navy ships with a Disbursing Officer. Official mailing addresses are published in the Standard Navy Distribution List, which is available as an appendix to the Navy's compilation of system of records notices and may be obtained from the System Manager.

The Navy Cash back-end ashore is operated by a U.S. Department of the Treasury Financial Agent, JPMorgan Chase, Treasury Services, 10430 Highland Manor Drive, Tampa, FL 33610-9128.

Categories of Individuals Covered by the System:

Navy and Marine Corps Active and Reserve military members, civilian employees, and contractors and civilians assigned to duty or visiting on board Navy ships.

Categories of Records in the System:

Individual's name, military branch or company name, Social Security Number (SSN), rate, rank, title, pay grade, date of birth, mother's maiden name or keyword, military duty address, residence/permanent address, work telephone number, cell telephone phone, email address, bank or credit union name, city, state, and zip code, ABA routing number, account number, name on account, account type, Navy Cash/Marine Cash card number, electronic signature (future capability), Automated Clearing House (ACH) Electronic Fund Transfer (EFT) requests, returned EFT requests, collections of debts, collections of payments, account balances, transaction history, and purchase history.

Authority for Maintenance of the System:

5 U.S.C. 301, Departmental Regulations; 10 U.S.C. 5013, Secretary of the Navy; 10 U.S.C. 5041, Headquarters Marine Corps; 31 U.S.C. 321, General Authority of the Secretary of the Treasury; Pub. L. 104-134, Debt Collection Improvement Act of 1996, as amended; Department of Defense Financial Management Regulation (DoDFMR) 7000.14-R, as amended; 5 U.S.C. 5514, Installment deduction for indebtedness to the United States; 31 U.S.C. 1322, Payments of unclaimed trust fund amounts and refund of amounts erroneously deposited; 31 U.S.C. 3720, Collection of payments; 31 U.S.C. 3720A, Reduction of tax refund by amount of debt; 31 U.S.C. 7701, Taxpayer indentifying number; 37 U.S.C. 1007, Deductions from pay; 31 CFR 210, Federal Government Participation in the Automated Clearing House; 31 CFR 285, Debt Collection Authorities under the Debt Collection Improvement Act of 1996; and E.O. 9397 (SSN), as amended.

Purpose(s):

To provide an electronic cash management application that replaces bills and coins for purchases on the ship; provides Sailors and Marines on board ship with electronic access to their Navy Cash accounts and a portion of pay each pay day (Split Pay Option), 24/7 offline access to bank and credit union accounts ashore, and the ability to move money electronically to and from Navy Cash accounts and bank and credit union accounts; and provides access off the ship to funds in Navy Cash accounts at merchants and ATMs worldwide.

Routine Uses of Records Maintained in the System, Including Categories of Users and the Purposes of Such Uses:

In addition to those disclosures generally permitted under 5 U.S.C. Section 552(a)(b) of the Privacy Act of 1974, as amended, these records contained therein may specifically be disclosed outside the DoD as a routine use pursuant to 5 U.S.C. 552a(b)(3) as follows:

To the U.S. Department of the Treasury, Fiscal and Financial Agents, and their contractors involved in providing Navy Cash services.

The DoD `Blanket Routine Uses' published at the beginning of the Department of the Navy's compilation of system of records notices may apply to this system.

Policies and Practices for Storing, Retrieving, Accessing, Retaining, and Disposing of Records in the System:

Storage:

Paper file folders and electronic storage media.

Retrievability:

Name, Social Security Number (SSN), and Navy Cash/Marine Cash card number.

Safeguards:

Paper and electronic records on board ship are maintained in controlled areas accessible only to authorized personnel, e.g., the Disbursing Office or Sales Office. Physical entry is restricted by the use of locks and administrative procedures. Access to personal information is restricted to those who require the records in the performance of their official duties. Access to personal information stored electronically is further restricted by the use of user names and passwords (current) and Common Access Card (CAC) (future). All individuals granted access will have received Information Assurance and Privacy Act training.

Retention and Disposal:

Records are maintained for 6 years and 3 months after the period covered by the individual accounts and then destroyed by burning or shredding or by degaussing, erasing, deleting, or overwriting.

System Manager and Address:

Commander, Naval Supply Systems Command, Navy Cash Program Office (N3/4), 5450 Carlisle Pike, Building 309, Mechanicsburg, PA 17055-0791.

Notification Procedure:

Individuals seeking to determine whether this system of records contains information about themselves should address written inquiries to Commander, Naval Supply Systems Command, Navy Cash Program Office (N3/4), 5450 Carlisle Pike, Building 309, Mechanicsburg, PA 17055-0791.

The request should be signed and include full name, last four digits of Social Security Number (SSN), rate/rank, and a complete mailing address. The system manager may require an original signature or a notarized signature as a means of proving the identity of the individual requesting access to the records.

Record access procedures:

Individuals seeking access to records about themselves contained in this system of records should address written inquiries to Commander, Naval Supply Systems Command, Navy Cash Program Office (N3/4), 5450 Carlisle Pike, Building 309, Mechanicsburg, PA 17055-0791.

The request should be signed and include full name, last four digits of Social Security Number (SSN), rate/rank, and a complete mailing address. The system manager may require an original signature or a notarized signature as a means of proving the identity of the individual requesting access to the records.

Contesting record procedures:

The Navy's rules for accessing records, and for contesting contents and appealing initial agency determinations are published in Secretary of the Navy Instruction 5211.5; 32 CFR part 701; or may be obtained from the system manager.

Record source categories:

Individual.

Exemptions claimed for the system:

An exemption rule for this system has been promulgated in accordance with the requirements of 5 U.S.C. 553(b)(1), (2) and (3)(c) and (e) and it published at 32 CFR part 701.

[FR Doc. 2012-15953 Filed 6-28-12; 8:45 am]

BILLING CODE 5001-06-P